DEPARTMENT OF TRANSPORTATION

Office of the Secretary

[Docket No. DOT-OST-2025-0996]

Privacy Act of 1974; System of Records

AGENCY: Federal Motor Carrier Safety Administration (FMCSA), Department of Transportation (DOT).

ACTION: Notice of a modified system of records.

SUMMARY: In accordance with the Privacy Act of 1974, the U.S. Department of Transportation (DOT), Federal Motor Carrier Safety Administration (FMCSA), is renaming, updating, and reissuing an existing System of Records Notice (SORN) currently titled “DOT/FMCSA-004, National Consumer Complaint Database (NCCDB).” The SORN will be retitled “DOT/FMCSA-004, FMCSA Complaint Center Records.” FMCSA is modernizing the system and expanding the program to enhance the Agency's ability to collect, monitor, and respond to complaints about Agency programs; establish reasonable procedures to provide timely responses; and share complaint information with external stakeholders and the public, as necessary and applicable.

DATES: Submit comments on or before October 31, 2025. The Department may publish an amended Systems of Records Notice considering any comments received. This modified system will be effective on October 1, 2025, and the routine uses will be effective on October 31, 2025.

ADDRESSES: You may submit comments, identified by docket number DOT-OST-2025-0996 by one of the following methods:

• Federal e-Rulemaking Portal: https://www.regulations.gov. Follow the instructions for submitting comments.

• Mail: Department of Transportation Docket Management, Room W12-140, 1200 New Jersey Ave. SE, Washington, DC 20590.

• Hand Delivery or Courier: West Building Ground Floor, Room W12-140, 1200 New Jersey Ave. SE, between 9 a.m. and 5 p.m. ET, Monday through Friday, except Federal holidays.

• Instructions: You must include the agency name and docket number DOT-OST-2025-0996. All comments received will be posted without change to https://www.regulations.gov, including any personal information provided. You may review the Department of Transportation's complete Privacy Act statement in the Federal Register published on April 11, 2000 (65 FR 19477-78).

Privacy Act: Anyone is able to search the electronic form of all comments received in any of our dockets by the name of the individual submitting the comment (or signing the comment, if submitted on behalf of an association, business, labor union, etc.).

Docket: For access to the docket to read background documents or comments received, go to https://www.regulations.gov or to the street address listed above. Follow the online instructions for accessing the docket.

FOR FURTHER INFORMATION CONTACT: For questions, please contact Karyn Gorman, Departmental Chief Privacy Officer, Privacy Office, Department of Transportation, Washington, DC 20590; email: privacy@dot.gov; phone (202) 366-3140.

SUPPLEMENTARY INFORMATION:

Notice Updates

This Notice includes both substantive and non-substantive changes to the previously published SORN. The substantive changes have been made to the system name, system location, system manager, authority for maintenance of the system, categories of individuals covered by the system, categories of records in the system, routine uses maintained in the system, and policies and practices for storing, retrieving, accessing, retaining, and disposing of records in the system, and exemptions. Non-substantive changes have been made to record access procedures and contesting record procedures. Updates include editorial changes to simplify and clarify language and formatting, and to align with Office of Management and Budget (OMB) Circular A-108 and ensure consistency with other SORNs issued by the Department of Transportation.

Background

In accordance with the Privacy Act of 1974, DOT proposes to modify and re-issue an existing system of records titled “DOT/FMCSA-004, National Consumer Complaint Database (NCCDB)” and retitle it “FMCSA Complaint Center Records”. This system collects information related to violations of Federal Motor Carrier Safety Regulations and Commercial Regulations. Records are collected and maintained for monitoring compliance, investigating complaints, and supporting enforcement actions related to motor carriers, brokers, and entities subject to FMCSA's jurisdiction. The following substantive changes have been made to the Notice:

1. System Name: This Notice updates the SORN name from “DOT/FMCSA-004, National Consumer Complaints Database” to “DOT/FMCSA-004, FMCSA Complaint Center Records”. The update to the SORN name is to better reflect the scope and nature of the records maintained in the system.

2. System Location: This Notice updates the system location to notify the public that the system location has changed. The previous SORN had an outdated address and additional information that no longer applies.

3. System Manager: This Notice updates the system manager name to reflect the change in system owner.

4. Authority: This Notice updates the authorities of the system to expand and include relevant statutory and regulatory authorities supporting the collection and maintenance of PII in the system.

5. Categories of Individuals: This Notice updates categories of individuals to clearly define who is covered by this system of records.

6. Categories of Records: This Notice updates the categories of records to better describe the type of complaint records maintained in the system to include Moving Company, Bus Company, Truck Company, Electronic Logging Device (ELD) Provider, Drug and Alcohol Service Agents, Property Broker, Entry Level Driver Training/Training Provider, Hazardous Material Transportation, Intermodal Equipment Provider, Motorist Safety, Occupational Safety and Health Administration, and Registration-Related Fraud and Identity Theft.

7. Routine Uses: This Notice updates routine uses to include the Department of Transportation's general routine uses applicable to this system.

8. Records Storage: This Notice updates policies and practices for the storage of records to inform the public that records are no longer stored in an automated system maintained by the Volpe Center but are now stored electronically on a FedRAMP-authorized contractor-maintained cloud environment.

9. Records Retrieval: This Notice updates the policies and practices for the retrieval of records to inform the public that records may be retrieved by filer name, respondent name, address (filer and respondent), phone number, State name, zip code, Email address, secondary respondent name, motor carrier number, USDOT number, complaint number, complaint date. Records will no longer be retrieved by fax number.

10. Retention and Disposal: This Notice updates the policies and practices for the retention and disposal of records to reflect the applicable National Archives and Records Administration (NARA) records schedule. The previous NARA record schedule no longer applies to the records in the system.

11. Exemptions: Notice is updated to reflect that no exemptions are claimed.

The following non-substantive changes have been made to the Notice:

12. Record Access: This Notice updates record access procedures to clarify that signatures on requests for records must either be notarized or accompanied by a statement made under penalty of perjury in compliance with 28 U.S.C. 1746.

13. Contesting records: The Notices changes language to state “See Records Access Procedures” above.

Privacy Act

The Privacy Act (5 U.S.C. 552a) governs the means by which the Federal Government collects, maintains, and uses personally identifiable information (PII) in a System of Records. A “system of records” is a group of any records under the control of a Federal agency from which information about individuals is retrieved by name or other personal identifier. The Privacy Act requires each agency to publish in the Federal Register a System of Records Notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information). In accordance with 5 U.S.C. 552a(r), DOT has provided a report of this system of records to the Office of Management and Budget and to Congress.

SYSTEM NAME AND NUMBER:

Department of Transportation, DOT/FMCSA-004, FMCSA Complaint Center Records.

SECURITY CLASSIFICATION:

Controlled Unclassified Information.

SYSTEM LOCATION:

Records are maintained in a FedRAMP-authorized third-party cloud environment. The contracts are maintained by U.S. DOT at 1200 New Jersey Avenue SE, Washington, DC 20590.

SYSTEM MANAGER(S):

FMCSA Office of Registration, 1200 New Jersey Avenue SE, Washington, DC 20590.

AUTHORITY FOR MAINTENANCE OF THE SYSTEM:

49 U.S.C. 14701 note; 49 U.S.C. Subtitle III, Chapter 51 (hazardous materials); Subtitle IV, Part B (commercial jurisdiction); and Subtitle VI, Part B, Chapters 311, 313 and 315 (safety jurisdiction), codified at 49 U.S.C. 13901-13908, 31136, 31134, 31137 and in 49 CFR parts 40, 360, 365, 366, 368, 371, 375, 380, 382, 385, 387, and 390-399.

PURPOSE(S) OF THE SYSTEM:

The purpose of the system is to provide consumers, drivers, and others associated with the motor carrier industry with an online mechanism to report violations of the Federal Motor Carrier Safety Regulations and other regulations within FMCA's jurisdiction for efficient reviewing and prioritization by the Agency for intervention in accordance with applicable program regulations and procedures. The system includes workflow management functionalities for FMCSA staff to evaluate complaints, communicate with filers for additional information, and keep consumers updated on their complaint status. Information collected by the system contributes to safer motor carrier operations on our nation's highways and improved consumer protection by educating consumers about Agency regulatory requirements and consumer protection rights, alerting consumers of those motor carriers with a history of complaints related to transporting household goods, and informing the public with how to avoid being victimized by untrustworthy moving companies. FMCSA, State, and local law enforcement can also use the system information to identify problematic motor carriers for investigatory or enforcement purposes and to promote compliance. Motor carrier companies can use the system information to assist with complaint reconciliation.

CATEGORIES OF INDIVIDUALS COVERED BY THE SYSTEM:

The system covers individuals who submit complaints or inquiries to the Agency (on their own or others' behalf), individuals on whose behalf complaints or inquiries are submitted by others (such as attorneys, members of Congress, third-party advocates, and/or other governmental organizations); and individuals who are the subjects of complaints.

CATEGORIES OF RECORDS IN THE SYSTEM:

Records in the system contain the complaint intake form for one of the following complaint categories: (1) Moving Company, (2) Bus Company, (3) Truck Company, (4) Electronic Logging Device Provider, (5) Drug and Alcohol Service Agents, (6) Property Broker, (7) Entry Level Driver Training/Training Provider, (8) Hazardous Materials Transportation, (9) Intermodal Equipment Provider, (10) Motorist Safety, (11) Occupational Safety and Health Administration, (12) Registration-Related Fraud and Identity Theft.

The filer provides the following information for each complaint, regardless of complaint type: First and Last Name of the Complaint Filer, email address, telephone number, mailing address, Privacy Preference (Filer indicates whether they consent to FMCSA sharing complaint information with the entity that is the subject of the complaint, and whether to have their contact information released or redacted), USDOT Number and/or legal name of the entity who committed the alleged violation, employment status, complaint and allegation type, date of the alleged incident, narrative description of the incident, supporting documentation, certification statement, location of the incident (applicable to motorist-related complaints), origin and destination city and state (the route the filer was on when the incident occurred), applicable to bus-related complaint and the transportation of household goods.

Uploaded documented evidence and/or additional complaint information may include correspondence or other information received; information from the entity or individual referring to the inquiry or complaint; records created of verbal communications by or with complainants or other individuals; information regarding third-party advocates or others who submit complaints or inquiries on another's behalf; information identifying the entity that is the subject of the complaint or inquiry or its employees; communication with or by the entity that is the subject of the complaint or inquiry or its employees; information about how complaints or inquiries were responded to or referred, including any resolution; and records used to respond to or refer complaints or inquiries, including other information systems maintained by the Agency.

RECORD SOURCE CATEGORIES:

Information in this system is obtained from individuals and entities filing complaints and inquiries, which may include other federal or state governmental authorities and entities or individuals that are the subjects of complaints and inquiries.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOT as a routine use pursuant to 5 U.S.C. 552a(b)(3) as follows:

System Specific Routine Uses:

1. To Motor Carrier Safety Assistance Program (MCSAP) State Partner agencies for use during safety investigations of motor carriers and to review and analyze complaints submitted against a motor carrier or broker that allege a violation of the FMCSRs.

2. To Household Goods (HHG) State Enforcement partner agencies for use during household goods reviews and investigations of motor carriers and brokers, to review and analyze complaints submitted against a motor carrier or broker that allege a violation of the FMCSRs.

Department General Routine Uses:

3. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

4a. Routine Use for Disclosure for Use in Litigation. It shall be a routine use of the records in this system of records to disclose them to the Department of Justice or other Federal agency conducting litigation when— (a) DOT, or any agency thereof, or (b) Any employee of DOT or any agency thereof, in his/her official capacity, or (c) Any employee of DOT or any agency thereof, in his/her individual capacity where the Department of Justice has agreed to represent the employee, or (d) The United States or any agency thereof, where DOT determines that litigation is likely to affect the United States, is a party to litigation or has an interest in such litigation, and the use of such records by the Department of Justice or other Federal agency conducting the litigation is deemed by DOT to be relevant and necessary in the litigation, provided, however, that in each case, DOT determines that disclosure of the records in the litigation is a use of the information contained in the records that is compatible with the purpose for which the records were collected.

4b. Routine Use for Agency Disclosure in Other Proceedings. It shall be a routine use of records in this system to disclose them in proceedings before any court or adjudicative or administrative body before which DOT or any agency thereof, appears, when— (a) DOT, or any agency thereof, or (b) Any employee of DOT or any agency thereof in his/her official capacity, or (c) Any employee of DOT or any agency thereof in his/her individual capacity where DOT has agreed to represent the employee, or (d) The United States or any agency thereof, where DOT determines that the proceeding is likely to affect the United States, is a party to the proceeding or has an interest in such proceeding, and DOT determines that use of such records is relevant and necessary in the proceeding, provided, however, that in each case, DOT determines that disclosure of the records in the proceeding is a use of the information contained in the records that is compatible with the purpose for which the records were collected.

5. Disclosure may be made to a Congressional office from the record of an individual in response to an inquiry from the Congressional office made at the request of that individual. In such cases, however, the Congressional office does not have greater rights to records than the individual. Thus, the disclosure may be withheld from delivery to the individual where the file contains investigative or actual information or other materials which are being used, or are expected to be used, to support prosecution or fines against the individual for violations of a statute, or of regulations of the Department based on statutory authority. No such limitations apply to records requested for Congressional oversight or legislative purposes; release is authorized under 49 CFR 10.35(9).

6. One or more records from a system of records may be disclosed routinely to the National Archives and Records Administration (NARA) in records management inspections being conducted under the authority of 44 U.S.C. 2904 and 2906.

7. DOT may make available to another agency or instrumentality of any government jurisdiction, including State and local governments, listings of names from any system of records in DOT for use in law enforcement activities, either civil or criminal, or to expose fraudulent claims, regardless of the stated purpose for the collection of the information in the system of records. These enforcement activities are generally referred to as matching programs because two lists of names are checked for match using automated assistance. This routine use is advisory in nature and does not offer unrestricted access to systems of records for such law enforcement and related antifraud activities. Each request will be considered on the basis of its purpose, merits, cost effectiveness and alternatives using Instructions on reporting computer matching programs to the Office of Management and Budget, OMB, Congress, and the public, published by the Director, OMB, dated September 20, 1989.

8a. DOT may disclose records from this system, as a routine use, to appropriate agencies, entities, and persons when (1) DOT suspects or has confirmed that there has been a breach of the system of records; (2) DOT has determined that as a result of the suspected or confirmed breach there is a risk of harm to individuals, DOT (including its information systems, programs, and operations), the Federal Government, or national security; and (3) the disclosure made to such agencies, entities, and persons is reasonably necessary to assist in connection with DOT's efforts to respond to the suspected or confirmed breach or to prevent, minimize, or remedy such harm.

8b. DOT may disclose records from this system, as a routine use, to another Federal agency or Federal entity, when DOT determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

9. DOT may disclose records from this system, as a routine use, to the Office of Government Information Services for the purpose of (a) resolving disputes between FOIA requesters and Federal agencies and (b) reviewing agencies' policies, procedures, and compliance in order to recommend policy changes to Congress and the President.

10. DOT may disclose records from the system, as a routine use, to contractors and their agents, experts, consultants, and others performing or working on a contract, service, cooperative agreement, or other assignment for DOT, when necessary to accomplish an agency function related to this system of records.

11. DOT may disclose records from this system, as a routine use, to an agency, organization, or individual for the purpose of performing audit or oversight operations related to this system of records, but only such records as are necessary and relevant to the audit or oversight activity. This routine use does not apply to intra-agency sharing authorized under Section (b)(1) of the Privacy Act.

12. DOT may disclose from this system, as a routine use, records consisting of, or relating to, terrorism information (6 U.S.C. 485(a)(5)), homeland security information (6 U.S.C. 482(f)(1)), or Law enforcement information (Guideline 2 Report attached to White House Memorandum, “Information Sharing Environment”, November 22, 2006) to a Federal, State, local, tribal, territorial, foreign government and/or multinational agency, either in response to its request or upon the initiative of the Component, for purposes of sharing such information as is necessary and relevant for the agencies to detect, prevent, disrupt, preempt, and mitigate the effects of terrorist activities against the territory, people, and interests of the United States of America, as contemplated by the Intelligence Reform and Terrorism Prevention Act of 2004 (Pub. L. 108-458) and Executive Order 13388 (October 25, 2005).

POLICIES AND PRACTICES FOR STORAGE OF RECORDS:

Records in the system are stored electronically on a contractor-maintained cloud storage service.

POLICIES AND PRACTICES FOR RETRIEVAL OF RECORDS:

Complaint records can be retrieved by the filer's name, respondent name, complaint/inquiry case number, address, phone number, email address, or a combination of the information listed in the categories of records, secondary respondent name, motor carrier number, USDOT number, and complaint date.

POLICIES AND PRACTICES FOR RETENTION AND DISPOSAL OF RECORDS:

Records in the system are maintained in accordance with the following NARA's records retention and schedules: NI-557-05-13, Item 1. Complaint records including telephone messages, electronic mail or forms, telefaxed messages, letters, are retained temporarily and destroyed or deleted 36 months after the information has been converted into an electronic medium, backed up, and verified. Master data files of the FMCSA Complaint Center are temporary records and deleted 6 years after the end of the calendar year in which a case is closed or when no longer needed for reference whichever is sooner.

ADMINISTRATIVE, TECHNICAL, AND PHYSICAL SAFEGUARDS:

Records in this system are safeguarded in accordance with applicable rules and policies, including all applicable DOT IT systems security and access policies. Appropriate controls have been imposed to minimize the risk of compromising the information that is being stored and ensuring confidentiality of communications using tools such as encryption, authentication, auditing, and compartmentalizing databases. The FMCSA Complaint Center data is encrypted at rest and in transit. Access to the records in this system is limited to those authorized individuals who have a need to know the information in furtherance of the performance of their official duties, and who have appropriate clearances or permissions. All personnel with access to data are screened through background investigations commensurate with the level of access required to perform their duties.

RECORD ACCESS PROCEDURES:

Individuals seeking access to and notification of any record contained in this system of records or seeking to contest its content may submit a request in writing to the System Manager to the address provided under “System Manager and Address” above.

When an individual seeks records about himself or herself from this system of records or any other Departmental system of records, the request must conform with the Privacy Act regulations set forth in 49 CFR part 10. The individual's request must verify their identity by providing their full name, current address, and date and place of birth. The individual must sign the request, and the individual's signature must either be notarized or submitted under 28 U.S.C. 1746, a law that permits statements to be made under penalty of perjury as a substitute for notarization. No specific form is required.

In addition, the individual should:

• Explain why the individual believes the Department would have information on them;

• Identify which component(s) of the Department the individual believes may have the information about them;

• Specify when the individual believes the records would have been created;

• and provide any other information that will help FMCSA.

If an individual's request is seeking records pertaining to another living individual, the first individual must include a statement from the second individual certifying his/her agreement for the first individual to access his/her records. Without the above information, the component(s) may not be able to conduct an effective search, and the individual's request may be denied due to a lack of specificity or compliance with the consent requirements of the Privacy Act statute and regulations.

CONTESTING RECORD PROCEDURES:

See “Records Access Procedures” above.

NOTIFICATION PROCEDURES:

See “Record Access Procedures” above.

EXEMPTIONS PROMULGATED FOR THE SYSTEM:

None.

HISTORY:

DOT/FMCSA 004—National Consumer Complaint Database (NCCDB) (75 FR 27051 (May 13, 2010)); DOT/FMCSA 04—Safety Violation and Consumer Complaint Safety Hotline Database (69 FR 63190 (Oct. 29, 2004)).

Issued in Washington, DC.
Karyn Gorman,
Chief Privacy Officer.

[FR Doc. 2025-19125 Filed 9-30-25; 8:45 am]

BILLING CODE 4910-9X-P